DEPARTMENT OF TRANSPORTATION

Federal Highway Administration

Environmental Impact Statement; King County, Washington

AGENCY: Federal Highway Administration (FHWA), DOT.

ACTION: Notice of Intent to prepare an environmental impact statement.

SUMMARY: The Federal Highway Administration is issuing this notice to advise the public that an Environmental Impact Statement (EIS) will be prepared for a proposed project to (1) manage congestion and traffic flow on I-90 between I-5 and I-405, which is in the Cross-Lake Washington Corridor, and (2) contribute revenue to the sustainable, long-term funding for timely completion of the SR 520 Bridge Replacement and HOV Program and maintenance and future transportation improvements on I-90. The total length of the corridor is approximately seven (7) miles. The scoping period for this EIS is October 7, 2013 through November 6, 2013.

FOR FURTHER INFORMATION CONTACT: Lindsey Handel, Urban Transportation Engineer, Federal Highway Administration, Washington Division, 711 S. Capitol Way, Suite 501, Olympia, WA 98501; telephone: 360-753-9550; and email: lindsey.handel@dot.gov. Washington State Department of Transportation (WSDOT) agency coordination contact: Angela Angove, I-90 Tolling Environmental Manager, Washington Department of Transportation (WSDOT); 999 Third Ave, Seattle, WA 98104; telephone: 206-805-2832; email: angovea@wsdot.wa.gov. Additional information on the I-90 Tolling Project can also be found on the project Web site at http://www.wsdot.wa.gov/Projects/I90/CrossLakeWATolling.

SUPPLEMENTARY INFORMATION: In the 2012 Transportation Budget Bill, ESHB 2109, the Washington State Legislature directed WSDOT to “undertake a comprehensive environmental review of tolling Interstate 90 between I-5 and I-405 for the purposes of both managing traffic and providing funding for construction of the unfunded SR 520 from I-5 to Medina project . . . ”

The Cross-Lake Washington Corridor includes the I-90 and State Route (SR) 520 bridges, which are part of two parallel highways that along with portions of I-5 and I-405 operate as one larger system to connect the region's major employment and population centers over Lake Washington, a 22-mile-long body of water. The FHWA is issuing this notice to advise the public that an EIS will be prepared by FHWA and WSDOT on a proposed project to introduce tolling to I-90 between I-5 in Seattle and I-405 in Bellevue, Washington. The specific boundaries of the project study area will be defined in the EIS.

FHWA and WSDOT initially planned to prepare an environmental assessment (EA) for this project and conducted the first round of scoping between January 22, 2013 and February 22, 2013. FHWA and WSDOT received approximately 3,400 comments, most of which expressed concern with or opposition to tolls on I-90. Between the time that the scoping comment period ended in February 2013 and the time that the Scoping Summary Report was published in June, the Washington State Legislature passed Engrossed Substitute Senate bill 5024, amending their previous direction to WSDOT by requiring an EIS for the project. Given the type of comments received during scoping urging FHWA and WSDOT to prepare on EIS in conjunction with the new state law, FHWA and WSDOT will move forward with an EIS to evaluate potential effects of the Project.

Based on input received during the first scoping period, FHWA and WSDOT have revised the purpose and need statement. These changes include a revised purpose statement, as well as added clarification on the need to manage congestion on I-90, and the need for additional revenue to complete the SR 520, I-5 to Medina: Bridge Replacement and HOV Project. The revised purpose and need statement is available on the project Web site at http://www.wsdot.wa.gov/Projects/I90/CrossLakeWATolling.

Three tolling scenarios were introduced during the first scoping period. These included tolls collected between Seattle and Mercer Island, tolls collected between Bellevue and Mercer Island, and partial tolls collected on trips within a segment. In addition to these three tolling scenarios, several alternatives to tolling were suggested by the public and agencies. Suggested alternatives included, but are not limited to, other funding mechanisms for the SR 520 program such as gas tax, increasing tolls on SR 520, and vehicle miles traveled tax. Other alternatives suggested include tolling other facilities, increased transit service, and adding high occupancy toll lanes to I-90. All reasonable alternatives recommended by the Washington State Legislature, the public, and agencies will be considered and evaluated in the EIS to determine if they meet the purpose and need of the project: the EIS will also include a No-Build Alternative.

Agency Coordination: The lead agencies are coordinating with the local, state and federal resource agencies during the National Environmental Policy Act (NEPA) process.

Tribal Coordination: Formal Tribal government consultation will occur through government-to-government coordination.

An agency and tribal scoping meeting will be held Thursday, October 10, 2013. WSDOT will send invitations to agencies and Tribes.

Public Meetings: Three public information meetings will be held in October 2013, including:

• Monday, October 10, 2013, 4:00 p.m.-7:00 p.m., at the Bellevue College located at 3000 Landerholm Circle, SE., Bellevue, WA 98007;

• Tuesday, October 21, 2013, 4:30 p.m.-8:30 p.m., at Mercer Island High School located at 9100 SE 42nd Street, Mercer Island, WA 98040; and

• Thursday, October 23, 2013, 4:00 p.m.-7:00 p.m., at the Northwest African American Museum located at 2300 Massachusetts Street, Seattle, WA 98144.

Agencies, Tribes, and the public are encouraged to submit comments on the revised purpose and need and preliminary range of alternatives during the scoping period. Comments must be received by November 6, 2013 to be included in the formal scoping record.

Americans with Disabilities Act (ADA) Information: All public information meeting locations are accessible to persons with disabilities. Any individual who requires special assistance, such as a sign language interpreter, should contact Colleen Gants, WSDOT Toll Division Communications and External Affairs at 206-716-1150 or gantsc@consultant.wsdot.wa.gov at least 48 hours in advance of the meeting in order for WSDOT to make necessary arrangements.

Comments received during the initial scoping process held January 22-February 22, 2013 will be considered in the preparation of this EIS. To ensure that the full range of issues related to this proposed action is addressed, and all significant issues identified, new or additional comments and suggestions are invited from interested parties during the second scoping period. Comments concerning this proposal will be accepted at the public meetings or can be sent by mail to I-90 Tolling Project, Attention: Angela Angove, 999 Third Avenue, Suite 2200, Seattle, WA 98104 or email sent to i90EIScomments@wsdot.wa.gov. Comments must be received by November 6, 2013 to be included in the formal scoping record.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508

Dated: September 20, 2013.
Daniel M. Mathis,
Division Administrator, Olympia, WA.

[FR Doc. 2013-23446 Filed 9-25-13; 8:45 am]

BILLING CODE 4910-22-P